FEDERAL ELECTION COMMISSION

Sunshine Act Meetings

AGENCY: Federal Election Commission.

PREVIOUSLY ANNOUNCED DATE & TIME: Tuesday, June 13, 2000, 10 a.m., meeting closed to the public.

THIS MEETING WAS CANCELED.

DATE & TIME: Tuesday, June 20, 2000 at 10 a.m.

PLACE: 999 E Street, N.W., Washington, D.C.

STATUS: This meeting will be closed to the public.

ITEMS TO BE DISCUSSED:

Compliance matters pursuant to 2 U.S.C. 437g.

Audits conducted pursuant to 2 U.S.C. 437g, 438(b), and Title 26, U.S.C.

Matters concerning participation in civil actions or proceedings or arbitration.

Internal personnel rules and procedures or matters affecting a particular employee.

DATE & TIME: Thursday, June 22, 2000, at 10 a.m.

PLACE: 999 E Street, N.W., Washington, D.C. (ninth floor).

STATUS: This meeting will be open to the public.

ITEMS TO BE DISCUSSED:

Correction and Approval of Minutes.

Draft Advisory Opinion 2000-10—America's Community Bankers Political Action Committee (COMPAC), Matthew D. Smyth, Director.

Draft Advisory Opinion 2000-11—Georgia-Pacific Corporation and the G-P Employees Fund of Georgia-Pacific by counsel, Jan Witold Baran.

Draft Advisory Opinion 2000-13—iNEXTV Corporation by counsel, John J. Duffy.

Administrative Matters.

PERSON TO CONTACT FOR INFORMATION: Mr. Ron Harris, Press Officer, Telephone: (202) 694-1220.

Mary W. Dove,
Acting Secretary of the Commission.

[FR Doc. 00-15267 Filed 6-13-00; 11:35 am]

BILLING CODE 6715-01-M